NUCLEAR REGULATORY COMMISSION

Notice of Intent To Establish Independent External Review Panel To Identify Vulnerabilities in the U.S. Nuclear Regulatory Commission's Material Licensing Program

AGENCY: U.S. Nuclear Regulatory Commission.

ACTION: This notice is to announce the NRC intends to establish a new advisory committee.

SUPPLEMENTARY INFORMATION: The U.S. Nuclear Regulatory Commission (NRC) is chartering a new advisory committee. This action is being taken in accordance with the Federal Advisory Committee Act, after consultation with the Committee Management Secretariat, General Services Administration. The committee, designated as the Independent External Review Panel to Identify Vulnerabilities in the U.S. Nuclear Regulatory Commission's Material Licensing Program is being tasked to respond to the NRC Office of the Inspector General (OIG) recommendation (OIG-07-A-12), “* * * that the Executive Director for Operations convene an independent panel of experts external to the agency to identify agency vulnerabilities concerning NRC's material licensing and tracking programs and validate the agency's ongoing byproduct material security efforts.” The OIG report also stated, “Such an assessment should necessarily include examination of the management, operational, and technical security controls and the extent to which these controls are: (1) Implemented correctly, (2) operating as intended, and (3) producing the desired outcome with respect to mitigating security vulnerabilities.”

In responding to this recommendation, the panel will include in its review an assessment of the existing and potential security vulnerabilities related to NRC's specific, import, export and general license programs. The panel is to also evaluate the apparent good-faith presumption that pervades the NRC licensing process (See Recommendation S-1 in the Action Plan).

The panel is expected to develop an agenda and plan for the review; this plan will include, as a minimum, assessment of pre-licensing guidance, licensing procedures, the licensing process, possession limits on licenses, and license reviewer training and oversight. The panel will document each significant issue identified and make appropriate recommendations and propose corrective actions.

The panel is being asked to complete and submit a report with recommendations to the Director of the Office of Federal and State Materials and Environmental Management Programs by January 31, 2008. In addition to documenting its recommendations and the bases for those recommendations, the panel will be asked to document other options that were considered and the reasons for not adopting them.

For Further Information Please Contact: Aaron McCraw (301-415-1277) ATM@NRC.GOV, U.S. Nuclear Regulatory Commission, Washington, DC 20555.

Dated: October 3, 2007.
Andrew L. Bates,
Federal Advisory Committee Management Officer.

[FR Doc. E7-19943 Filed 10-9-07; 8:45 am]

BILLING CODE 7590-01-P